DEPARTMENT OF THE TREASURY

Submission for OMB Review; Comment Request

September 25, 2000.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before October 30, 2000 to be assured of consideration.

Internal Revenue Service (IRS)

OMB Number: 1545-0196.

Form Number: IRS Form 5227.

Type of Review: Extension.

Title: Split-Interest Trust Information Return.

Description: The data reported is used to verify that the beneficiaries of a charitable remainder trust include the correct amounts in their tax returns, and that the split-interest trust is not subject to private foundation taxes.

Respondents: Business or other for-profit.

Estimated Number of Respondents/Recordkeepers: 88,640.

Estimated Burden Hours Per Respondent/Recordkeeper:

Recordkeeping—59 hr., 46 min.

Learning about the law or the form—11 hr., 19 min.

Preparing the form—19 hr., 17 min.

Copying, assembling, and sending the form to the IRS—1 hr., 52 min.

Frequency of Response: Annually.

Estimated Total Reporting/Recordkeeping Burden: 7,448,736 hours.

OMB Number: 1545-1222.

Form Number: IRS Forms 8635 and 9383.

Type of Review: Revision.

Title: BPOL Order Blank for Federal Income Tax Forms (8635); and Fax Order Blank for BPOL Reorders (9383).

Description: Form 8635 serves as an order blank for participants of the Bank, Post Office, and Library (BPOL) Program. It collects information from banks, post offices and libraries detailing the quantities and types of tax forms and related materials that they will distribute to taxpayers during the tax-filing season. The fax sheet (Form 9383) allows participants to order products via fax.

Respondents: Business or other for-profit, Not-for-profit institutions, Federal Government, State, Local or Tribal Government.

Estimated Number of Respondents/Recordkeepers: 36,688.

Estimated Burden Hours Per Respondent/Recordkeeper: 6 minutes for each form.

Frequency of Response: Annually.

Estimated Total Reporting/Recordkeeping Burden: 3,669 hours.

Clearance Officer: Garrick Shear,Internal Revenue Service,Room 5244,1111 Constitution Avenue, NW,Washington, DC 20224.

OMB Reviewer: Alexander T. Hunt, (202) 395-7860,Office of Management and Budget,Room 10202, New Executive Office Building,Washington, DC 20503.

Lois K. Holland,
Departmental Reports Management Officer.

[FR Doc. 00-24973 Filed 9-28-00; 8:45 am]

BILLING CODE 4830-01-P